DEPARTMENT OF ENERGY

Federal Energy Regulatory Commission

[Docket No. RP02-549-000]

TransColorado Gas Transmission Company; Notice of Tariff Filing

September 20, 2002.

Take notice that on September 17, 2002, TransColorado Gas Transmission Company (TransColorado) tendered for filing as part of its FERC Gas Tariff, Original Volume No. 1, Fourth Revised Sheet No. 247B, to be effective October 17, 2002.

TransColorado's filing corrects the delivery-point reference under Section 12.9(d)(i) of its FERC Gas tariff from “Love Ranch” to “[a]t the terminus of TransColorado's line at Greasewood.” The reference to Love Ranch was inadvertently included in TransColorado's July 30, 2002, filing in Docket No. RP02-398-000, which was approved by letter order dated August 30, 2002.

TransColorado states that a copy of this filing is being served upon TransColorado's customers, the Colorado Public Utilities Commission and New Mexico Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's web site under the “e-Filing” link.

Magalie R. Salas,
Secretary.

[FR Doc. 02-24568 Filed 9-26-02; 8:45 am]

BILLING CODE 6717-01-P